DEPARTMENT OF ENERGY

Office of Energy Efficiency and Renewable Energy

Request for Member Nominations; Hydrogen Technical and Fuel Cell Advisory Committee

AGENCY: Office of Energy Efficiency and Renewable Energy, U.S. Department of Energy.

ACTION: Notice of request for member nominations for the Hydrogen Technical and Fuel Cell Advisory Committee.

SUMMARY: The Hydrogen Technical and Fuel Cell Advisory Committee (HTAC or Committee) was established by section 807 of Title VIII, Hydrogen (“Spark M. Matsunaga Act of 2005”), of the 2005 Energy Policy Act (Pub. L. 109-58). In order to ensure a wide range of candidates for HTAC and a balanced committee, DOE is using this public announcement as an avenue to solicit nominations for this Committee.

DATES: Nominations should be submitted by January 23, 2006.

ADDRESSES: Nominations should be submitted in electronic format. Nominations should be sent via e-mail to htac.nominees@ee.doe.gov. Any requests for further information should also be sent via e-mail to htac.nominees@ee.doe.gov.

SUPPLEMENTARY INFORMATION: The Committee will provide advice and recommendations to the Secretary of Energy (Secretary) on the program authorized by the Spark M. Matsunaga Hydrogen Act of 2005 (“the Act”). This Committee supersedes the Hydrogen Technical Advisory Panel established by the Spark M. Matsunaga Hydrogen Research, Development, Demonstration Program Act of 1990, Public Law 101-566, and reauthorized by the Hydrogen Future Act of 1996, Public Law 104-271.

The Committee's scope is to review and make recommendations to the Secretary on (1) The implementation of programs and activities under the Act (42 U.S.C. 16151 et seq.), (2) the safety, economical, and environmental consequences of technologies for the production, distribution, delivery, storage, or use of hydrogen energy and fuel cells and (3) the plan under section 804 of the Act. The Secretary shall consider, but need not adopt, any recommendations of HTAC.

DOE is hereby soliciting nominations for members of the Committee. The Committee is expected to be continuing in nature. The Secretary of Energy will appoint 12 to 25 Committee members. Members will be selected with a view toward achieving a balanced committee of representatives of domestic industry, academia, professional societies, government agencies, Federal laboratories, previous advisory panels, and financial, environmental and other appropriate organizations based on the needs of the Committee and DOE. Committee members will serve for a term of three years or less and may be reappointed. Appointments may be made in a manner that allows the terms of the members serving at any time to expire at spaced intervals, so as to ensure continuity in the functioning of the Committee. The Committee members will elect a chairperson from among their number. The Committee is expected to meet twice per year. Subcommittees to address specific agenda items are anticipated and may meet more frequently. Some Committee members may be appointed as special Government employees (SGEs) and will be subject to certain ethical restrictions as a result. Such members will also be required to submit certain information in connection with the appointment process.

Process and Deadline for Submitting Nominations

Qualified individuals can self-nominate or be nominated by any individual or organization. Nominators should submit (via e-mail to htac.nominees@ee.doe.gov) a description of the nominee's qualifications, including matters that would enable the Department to make an informed decision, such as but not limited to the nominee's education and professional experience. Should more information be needed, DOE staff will contact the nominee, obtain information from the nominee's past affiliations, or obtain information from publicly available sources, such as the internet.

A selection team will review the nomination packages. This team will be comprised of representatives from several DOE Offices, as well as at least one representative from the Department of Transportation. DOE is seeking a balance of appropriate stakeholder viewpoints to address the broad statutory mandate. (Note that the Committee will address implementation of the Hydrogen Program activities covered in the Act; the Committee will not address whether there should be a Hydrogen Program.) The selection team will consider many criteria, including and not limited to: (a) Scientific or technical expertise, knowledge, and experience; (b) stakeholder representation as described in the Act; (c) availability and willingness to serve; and (d) skills working in committees, subcommittees and advisory panels. Structured interviews with some candidates may also occur.

The selection team will make recommendations regarding membership to the Assistant Secretary for Energy Efficiency and Renewable Energy (EERE). The Assistant Secretary for EERE will submit a list of recommended candidates to the Secretary for review and selection of Committee members.

Candidates selected by the Secretary of Energy to serve as SGEs will be required to fill out the Confidential Financial Disclosure Form for Special Government Employees Serving on Federal Advisory Committees at the U.S. Department of Energy and other forms incidental to Federal appointment. The confidential financial disclosure form allows government officials to determine whether there is a conflict between the special Government employee's public responsibilities and private interests and activities, or the appearance of a lack of impartiality, as defined by statute and regulation. The form may be viewed from the following URL address: http://www.hydrogen.energy.gov/advisory_panels.html.

Issued in Washington, DC, on November 17, 2005.
Douglas L. Faulkner,
Acting Assistant Secretary, Energy Efficiency and Renewable Energy.

[FR Doc. 05-23174 Filed 11-22-05; 8:45 am]

BILLING CODE 6450-01-P